DEPARTMENT OF TRANSPORTATION

Federal Aviation Administration

14 CFR Part 39

[Docket No. 2001-NM-33-AD]

RIN 2120-AA64

Airworthiness Directives; Bombardier Model CL-600-2B19 Series Airplanes

AGENCY: Federal Aviation Administration, DOT.

ACTION: Notice of proposed rulemaking (NPRM).

SUMMARY: This document proposes the supersedure of an existing airworthiness directive (AD), applicable to certain Bombardier Model CL-600-2B19 series airplanes, that currently requires repetitive ultrasonic inspection to detect damage of the actuator lugs of the flight spoiler center hinge; and corrective action, if necessary. This proposal would mandate the previously optional terminating action by requiring replacement of the flight spoilers with new improved spoilers. The actions specified by the proposed AD are intended to prevent uncommanded deployment of a flight spoiler, which could result in reduced controllability of the airplane. This proposed action is intended to address the identified unsafe condition.

DATES: Comments must be received by April 30, 2001.

ADDRESSES: Submit comments in triplicate to the Federal Aviation Administration (FAA), Transport Airplane Directorate, ANM-114, Attention: Rules Docket No. 2001-NM-33-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-33-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington, or at the FAA, New York Aircraft Certification Office, 10 Fifth Street, Third Floor, Valley Stream, New York.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-33-AD.” The postcard will be date stamped and returned to the commenter.

Availability of NPRMs

Any person may obtain a copy of this NPRM by submitting a request to the FAA, Transport Airplane Directorate, ANM-114, Attention: Rules Docket No. 2001-NM-33-AD, 1601 Lind Avenue, SW., Renton, Washington 98055-4056.

Discussion

On February 6, 2001, the FAA issued AD 2001-03-04, amendment 39-12107 (66 FR 10187, February 14, 2001), applicable to certain Bombardier Model CL-600-2B19 series airplanes, to require repetitive ultrasonic inspection to detect damage of the actuator lugs of the flight spoiler center hinge; and corrective action, if necessary. That action also specifies an optional terminating action that entails replacement of certain right- and left-hand flight spoilers with new, improved flight spoilers. The requirements of AD 2001-03-04 are intended to prevent uncommanded deployment of a flight spoiler, which could result in reduced controllability of the airplane.

Actions Since Issuance of Previous Rule

In the preamble of AD 2001-03-04, the FAA indicated that the actions required by that AD were considered “interim action” and that further rulemaking was being considered to require replacement of both flight spoilers with new, improved spoilers, which would constitute terminating action for the requirements of that AD. We have now determined that further rulemaking is indeed necessary, and this proposed AD follows from that determination.

Explanation of Relevant Service Information

Bombardier has issued Service Bulletin 601R-57-029, dated May 30, 2000, which describes installation of new enhanced flight spoilers. Installation of the new, improved flight spoilers eliminates the need for the repetitive inspections specified in AD 2001-03-04.

Transport Canada Civil Aviation (TCCA), which is the airworthiness authority for Canada, has classified this service bulletin as mandatory and issued Canadian airworthiness directive CF-2000-15R1, dated February 22, 2001, in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, the TCCA has kept the FAA informed of the situation described above. The FAA has examined the findings of the TCCA, reviewed all available information, and determined that AD action is necessary for products of this type design that are certificated for operation in the United States.

Explanation of Requirements of Proposed Rule

Since an unsafe condition has been identified that is likely to exist or develop on other airplanes of the same type design registered in the United States, the proposed AD would continue to require repetitive ultrasonic inspections to detect damage of the actuator lugs of the flight spoiler center hinge; and corrective action, if necessary. The proposed AD also would continue to require that operators report the results of the inspection findings to Bombardier, Inc. However, we have extended the reporting time from “within 10 days of the inspection,” to “within 30 days of the inspection,” as specified in the the Canadian airworthiness directive. This proposal also would require replacement of the left- and right-hand flight spoilers with new, improved spoilers, which would constitute terminating action for the repetitive ultrasonic inspections. The replacement would be required to be accomplished in accordance with the service bulletin described previously.

Editorial Changes

The FAA has noted that AD 2001-03-04 contained incorrect numbering of the subparagraphs of paragraph (b) of that AD. Therefore, we revised the subparagraphs numbering of that paragraph for this proposed rule.

Cost Impact

There are approximately 195 Bombardier Model CL-600-2B19 series airplanes of U.S. registry that would be affected by this proposed AD.

The inspections that are currently required by AD 2001-03-04, and retained in this proposed AD, take approximately 2 work hours per airplane to accomplish, at an average labor rate of $60 per work hour. Based on these figures, the cost impact of the currently required actions on U.S. operators is estimated to be $23,400, or $120 per airplane, per inspection cycle.

The new replacement that is proposed by this AD action would take approximately 4 work hours per airplane to accomplish, at an average labor rate of $60 per work hour. The required parts would be provided by the manufacturer at no cost to the operators. Based on these figures, the cost impact of the replacement proposed by this AD on U.S. operators is estimated to be $46,800, or $240 per airplane.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12107 (66 FR 10187, February 14, 2001), and by adding a new airworthiness directive (AD), to read as follows:

Bombardier, Inc. (Formerly Canadair): Docket 2001-NM-33-AD. Supersedes AD 20001-03-04 Amendment 39-12107.

Applicability: Model CL-600-2B19 series airplanes, 7003 though 7340 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent uncommanded deployment of a flight spoiler, which could result in reduced controllability of the airplane, accomplish the following:

Restatement of Requirements of AD 2001-03-04

Inspections

(a) Prior to the accumulation of 3,000 total flight cycles or within 30 days after March 1, 2001 (the effective date of AD 2001-03-04, amendment 39-12107): Perform nondestructive evaluation procedure NDE UT-35 (ultrasonic inspections) to detect damage (e.g., cracking) of the actuator lugs on both of the center hinge fittings of flight spoilers part numbers (P/N) 600-10602-1001 and -1002, at spoiler stations 195.36 and 204.36; in accordance with Section 2, Accomplishment Instructions, Part A of Bombardier Alert Service Bulletin A601R-57-027, Revision C, dated May 30, 2000. If no damage is detected, repeat the inspection at intervals not to exceed 500 flight cycles until the requirements of paragraph (c) of this AD have been accomplished.

Note 2: Accomplishment of the nondestructive evaluation procedure in accordance with Bombardier Alert Service Bulletin A601R-57-027, dated April 19, 1999, Revision A, dated July 23, 1999, or Revision B, dated December 8, 1999, is acceptable for compliance with the requirements of paragraph (a) of this AD.

Corrective Actions

(b) If any damage (e.g., cracking) is detected during the inspection required by paragraph (a) of this AD: Prior to further flight, remove the damaged flight spoiler and perform nondestructive evaluation procedure NDE ET-27 of the lug, per Section 2 of the Accomplishment Instructions of Part B of Bombardier Alert Service Bulletin A601R-57-027, Revision C, dated May 30, 2000.

(1) If no damage is detected, repeat the inspection required by paragraph (a) of this AD at intervals not to exceed 500 flight cycles until the requirements of paragraph (c) of this AD have been accomplished.

(2) If any damage is detected, prior to further flight, replace the damaged flight spoiler with a new or serviceable flight spoiler, per Bombardier Service Bulletin 601R-57-029, dated May 30, 2000.

(i) For a flight spoiler with no damage or one that is replaced with a new or serviceable flight spoiler: Repeat the inspection required by paragraph (a) of this AD at intervals not to exceed 500 flight cycles, until the requirements of paragraph (c) of this AD have been accomplished.

(ii) If both flight spoilers are replaced with new improved spoilers, no further action is required by this AD.

New Requirements of This AD

Replacement of Certain Flight Spoilers

(c) Within 36 months after the effective date of this AD, replace any flight spoiler having part number (P/N) 600-10602-1001 or 600-10602-1002 with a new improved left-hand flight spoiler having P/N 600-10602-73 or a new right-hand flight spoiler having P/N 600-10602-74, as applicable; in accordance with Bombardier Service Bulletin 601R-57-029, dated May 30, 2000. Such replacement of both the left-hand and right-hand flight spoilers constitutes terminating action for the repetitive inspection requirements of this AD.

Reporting Requirements

(d) Within 30 days of accomplishing the inspection required by paragraph (a) of this AD: Submit a report of any findings of cracking to Bombardier, Inc., Canadair, Aerospace Group, P.O. Box 6087, Station Centre-ville, Montreal, Quebec H3C 3G9, Canada. Information collection requirements contained in this regulation have been approved by the Office of Management and Budget (OMB) under the provisions of the Paperwork Reduction Act of 1980 (44 U.S.C. 3501 et seq.) and have been assigned OMB Control Number 2120-0056.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with §§ 21.197 and 21.199 of the Federal Aviation Regulations (14 CFR 21.197 and 21.199) to operate the airplane to a location where the requirements of this AD can be accomplished.

Note 4: The subject of this AD is addressed in Canadian airworthiness directive CF-2000-15R1, dated February 22, 2001.

Issued in Renton, Washington, on March 22, 2001.
Donald L. Riggin,
Acting Manager, Transport Airplane Directorate, Aircraft Certification Service.

[FR Doc. 01-7706 Filed 3-28-01; 8:45 am]

BILLING CODE 4910-13-U